DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Michigan State Trust for Railway Preservation, Inc.

[Docket Number FRA-2009-0084]

The Michigan State Trust For Railway Preservation, Inc. (Petitioner) seeks a waiver of compliance from certain provisions of Railroad Freight Car Safety Standards, 49 CFR 215.303, that requires restricted railroad freight car be stencilled in a specified way.

The Petitioner is a Michigan Corporation and 501(c)(3) public charity whose mission is to preserve the nation's steam locomotive heritage. The Petitioner operates the Steam Railroading Institute, with the address of P.O. Box 665, Owosso, Michigan 48867-0665.

The Petitioner owns ten freight cars of various built dates ranging from December 1923, to January 1957. In a separate request, the Petitioner is seeking special approval of continued use of these cars in accordance with 49 CFR 215.203(c). In this petition, the petitioner stated that the main reason for the petitioner's maintenance and operation of these historic cars is their status and the attraction as operating historic artifacts. Stencilling the cars in order to meet the letter of Section 215.303 would violate the historic impression that the car is maintained to preserve. The Petitioner further stated that the operation will be confined to the Great Lakes Central Railroad in Michigan, at speeds not exceeding 40 miles per hour with light tonnage, in accordance with Part 215. These cars will never be subject to interchange.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0084) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on October 21, 2009.
Grady C. Cothen, Jr.,
Deputy Associate Administrator for Safety Standards and Program Development.

[FR Doc. E9-25819 Filed 10-26-09; 8:45 am]

BILLING CODE 4910-06-P